DEPARTMENT OF DEFENSE

GENERAL SERVICES ADMINISTRATION

NATIONAL AERONAUTICS AND SPACE ADMINISTRATION

48 CFR Chapter 1

[Docket No. FAR-2024-0051, Sequence No. 5]

Federal Acquisition Regulation; Federal Acquisition Circular 2024-07; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2024-07. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2024-07
Item | Subject | FAR case | Analyst
I | Reference to Penalty Threshold | 2023-005 | Jones.
II | Technical Amendments

ADDRESSES: The FAC, including the SECG, is available at https://www.regulations.gov.

SUPPLEMENTARY INFORMATION: Summaries for each FAR rule follow. For the actual revisions and/or amendments made by these FAR rules, refer to the specific item numbers and subjects set forth in the documents following these item summaries. FAC 2024-07 amends the FAR as follows:

Item I—Reference to Penalty Threshold (FAR Case 2023-005)

This final rule amends the FAR to align the penalties language in the FAR lobbying provision at FAR 52.203-11 with the equivalent penalties language in the FAR lobbying clause at FAR 52.203-12. FAR 52.203-11(e) cites to the underlying authority at 31 U.S.C. 1352 and specifies that an imposition of a civil penalty does not prevent the Government from seeking any other remedy that may be applicable.

Item II—Technical Amendments

Administrative changes are made at FAR 4.1202, 19.102, and 19.309.

William F. Clark,
Director, Office of Government-Wide Acquisition Policy, Office of Acquisition Policy, Office of Government-Wide Policy.

Federal Acquisition Circular (FAC) 2024-07 is issued under the authority of the Secretary of Defense, the Administrator of General Services, and the Administrator of National Aeronautics and Space Administration.

Unless otherwise specified, all Federal Acquisition Regulation (FAR) and other directive material contained in FAC 2024-07 is effective August 29, 2024 except for Items I and II, which are effective September 30, 2024.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, Senior Procurement Executive/Deputy CAO, National Aeronautics and Space Administration.

[FR Doc. 2024-19254 Filed 8-28-24; 8:45 am]

BILLING CODE 6820-EP-P